DEPARTMENT OF ENERGY

Federal Energy Regulatory Commission

[Project No. 4718-039]

Cocheco Falls Associates Notice of Intent To Prepare an Environmental Assessment

On December 29, 2020, Cocheco Falls Associates filed an application for a subsequent license to continue operating the existing 714-kilowatt Cocheco Falls Dam Project No. 4718 (project). The project is located on the Cocheco River in the city of Dover, Strafford County, New Hampshire. The project does not occupy federal land.

In accordance with the Commission's regulations, on August 12, 2021, Commission staff issued a notice that the project was ready for environmental analysis (REA notice). Based on the information in the record, including comments filed on the REA notice, staff does not anticipate that licensing the project would constitute a major federal action significantly affecting the quality of the human environment. Therefore, staff intends to prepare an Environmental Assessment (EA) on the application to license the project.

The EA will be issued and circulated for review by all interested parties. All comments filed on the EA will be analyzed by staff and considered in the Commission's final licensing decision.

The application will be processed according to the following schedule. Revisions to the schedule may be made as appropriate.

Milestone | Target date
Commission issues EA | April 2022. ¹
Comments on EA | May 2022.

Any questions regarding this notice may be directed to Amy Chang at (202) 502-8250 or amy.chang@ferc.gov.

¹ The Council on Environmental Quality's (CEQ) regulations under 40 CFR 1501.10(b)(1) require that EAs be completed within 1 year of the federal action agency's decision to prepare an EA. This notice establishes the Commission's intent to prepare an EA for the Cocheco Falls Dam Project. Therefore, in accordance with CEQ's regulations, the EA must be issued within 1 year of the issuance date of this notice.

Dated: October 26, 2021.
Kimberly D. Bose,
Secretary.

[FR Doc. 2021-23736 Filed 10-29-21; 8:45 am]

BILLING CODE 6717-01-P